NATIONAL AERONAUTICS AND SPACE ADMINISTRATION

[Notice (17-067)]

Notice of Intent To Grant Partially Exclusive Patent License

AGENCY: National Aeronautics and Space Administration.

ACTION: Notice of intent to grant partially exclusive patent license.

SUMMARY: The National Aeronautics and Space Administration (NASA) hereby gives notice of its intent to grant a partially exclusive patent license in the United States to practice the inventions described and claimed in U.S. Patent Number 7,075,295 B2 titled “Magnetic Field Response Sensor for Conductive Media,” NASA Case Number LAR-16571-1; U.S. Patent Number 7,589,525 B2 titled “Magnetic Field Response Sensor for Conductive Media,” NASA Case Number LAR-16571-2; U.S. Patent No. 7,759,932 B2 titled “Magnetic Field Response for Conductive Media,” NASA Case Number LAR-16571-3; U.S. Patent No. 7,086,593 B2 titled “Magnetic Field Response Measurement Acquisition System,” NASA Case Number LAR-16908-1; U.S. Patent No. 7,047,807 B2 titled “Flexible Framework for Capacitive Sensing,” NASA Case No. LAR-16974-1; U.S. Patent No. 7,159,774 B2 titled “Magnetic Field Response Measurement Acquisition System,” NASA Case No. LAR-17280-1; U.S. Patent No. 8,430,327 B2 titled “Wireless Sensing System Using Open-Circuit, Electrically-Conductive Spiral-Trace Sensor,” NASA Case No. LAR-17294-1; U.S. Patent No. 8,673,649 B2 titled “Wireless Chemical Sensor and Sensing Method for Use Therewith,” NASA Case No. LAR-17579-1; U.S. Patent No. 9,329,149 B2 titled “Wireless Chemical Sensor and Sensing Method for Use Therewith,” NASA Case No. LAR-17579-2; U.S. Patent No. 9,733,203 B2 titled “Wireless Chemical Sensing Method,” NASA Case No. LAR-17579-3; U.S. Patent No. 8,179,203 B2 titled “Wireless Electrical Device using Open-Circuit Elements Having No Electrical Connections,” NASA Case No. LAR-17711-1; U.S. Patent Application No. 14/193,861 titled “Wireless Temperature Sensor Having No Electrical Connections and Sensing Method for Use Therewith,” NASA Case No. LAR-17747-1-CON; U.S. Patent No. 9,329,153 B2 titled “Method of Mapping Anomalies in Homogenous Material,” NASA Case No. LAR-17848-1; U.S. Patent No. 8,636,407 B2 titled “Wireless Temperature Sensor Having No Electrical Connections and Sensing Method for Use Therewith,” NASA Case No. LAR-18016-1; U.S. Patent Application No. 14/520,785 titled “Multi-Layer Wireless Sensor Construct for Use at Electrically Conductive Material Surface,” NASA Case No. LAR-18399-1; and U.S. Patent Application No. 14/520,863 titled “Antenna for Far Field Transceiving,” NASA Case No. LAR-18400-1, to T.L. Watson & Associates Inc., having its principal place of business in Alberta, Canada. The fields of use may be limited to emissions detection and quantification, gas and liquid flow rate measurement, compositional analysis, and quantification for hydrocarbons and other substances, including but not limited to H2S, CO2 and SO2, associated with the oil, gas and waste management industries at the well bore and/or below grade cavern, and associated above ground facilities for each; and/or similar fields of use thereto.

DATES: The prospective partially exclusive patent license may be granted unless, no later than October 10, 2017, NASA receives written objections including evidence and argument that establish that the grant of the license would not be consistent with the requirements regarding the licensing of federally owned inventions as set forth in the Bayh-Dohl Act and implementing regulations. Competing applications completed and received by NASA no later than October 10, 2017 will also be treated as objections to the grant of the contemplated partially exclusive license. Objections submitted in response to this notice will not be made available to the public for inspection and, to the extent permitted by law, will not be released under the Freedom of Information Act.

ADDRESSES: Objections relating to the prospective license may be submitted to Patent Counsel, Office of Chief Counsel, NASA Langley Research Center, MS 30, Hampton, Virginia 23681. Phone (757) 864-3221. Facsimile (757) 864-9190.

FOR FURTHER INFORMATION CONTACT: Robin W. Edwards, Patent Counsel, Office of Chief Counsel, NASA Langley Research Center, MS 30, Hampton, Virginia 23681. Phone (757) 864-3221. Facsimile (757) 864-9190.

SUPPLEMENTARY INFORMATION: This notice of intent to grant a partially exclusive patent license is issued in accordance with 35 U.S.C. 209(e) and 37 CFR 404.7(a)(1)(i). The patent rights in these inventions have been assigned to the United States of America as represented by the Administrator of the National Aeronautics and Space Administration. The prospective exclusive license will comply with the requirements of 35 U.S.C. 209 and 37 CFR 404.7.

Information about other NASA inventions available for licensing can be found online at http://technology.nasa.gov.

Mark P. Dvorscak,
Agency Counsel for Intellectual Property.

[FR Doc. 2017-20289 Filed 9-21-17; 8:45 am]

BILLING CODE 7510-13-P